DEPARTMENT OF AGRICULTURE

Rural Housing Service

Rural Business-Cooperative Service

Rural Utilities Service

Notice of Funds Availability Under the American Recovery and Reinvestment Act, 2009

AGENCIES: Rural Housing Service, Rural Business-Cooperative Service, and Rural Utilities Service, USDA.

ACTION: Notice.

SUMMARY: The Rural Housing Service (RHS), Rural Business-Cooperative Service (RBS), and Rural Utilities Service (RUS) are administered through USDA Rural Development (RD). This Notice announces the availability of stimulus assistance provided pursuant to Title 1 of Division A of the American Recovery and Reinvestment Act, 2009, (Pub. L. 111-5) (February 17, 2009).

DATES: Unless otherwise specified in this notice, applications will be accepted on a rolling basis until funds are expended. Program funding expires September 30, 2010.

ADDRESSES: Entities wishing to apply for assistance, or that are in need of further information, should contact the USDA Rural Development State Office in the state where the project is located. A list of the USDA Rural Development State Offices addresses and telephone numbers are as follows:

Note: Telephone numbers are not toll-free.

Alabama

Sterling Centre, Suite 601, 4121 Carmichael Road, Montgomery, AL 36106-3683, (334) 279-3400/TDD (334) 279-3495.

Alaska

USDA Rural Development State Office, 800 West Evergreen, Suite 201, Palmer, AK 99645-6539, (907) 761-7705/TDD (907) 761-8905.

Arizona

USDA Rural Development State Office, 230 N. 1st Ave., Suite 206, Phoenix, AZ 85003, (602) 280-8701/TDD (602) 280-8705.

Arkansas

USDA Rural Development State Office, 700 West Capitol Avenue, Room 3416, Little Rock, AR 72201-3225, (501) 301-3200/TDD (501) 301-3279.

California

USDA Rural Development State Office, 430 G Street, # 4169, Davis, CA 95616-4169, (530) 792-5800/TDD (530) 792-5848.

Colorado

USDA Rural Development State Office, 655 Parfet Street, Room E-100, Lakewood, CO 80215, (720) 544-2903/TDD (720) 544-2976.

Connecticut

USDA Rural Development State Office, 451 West Street, Suite 2, Amherst, MA 01002-2999, (413) 253-4300/TDD (413) 253-4590.

Delaware

USDA Rural Development State Office, 1221 College Park Drive, Suite 200, Dover, DE 19904, (302) 857-3580/TDD (302) 857-3585.

Florida

USDA Rural Development State Office, 4440 NW 25th Place, P.O. Box 147010, Gainesville, FL 32614-7010, (352) 338-3400/TDD (352) 338-3499.

Georgia

USDA Rural Development State Office, Stephens Federal Building, 355 E. Hancock Avenue, Athens, GA 30601-2768, (706) 546-2162/TDD (706) 546-2034.

Hawaii

USDA Rural Development State Office, Federal Building, Room 311, 154 Waianuenue Avenue, Hilo, HI 96720, (808) 933-8380/TDD (808) 933-8321.

Idaho

USDA Rural Development State Office, 9173 West Barnes Dr., Suite A1, Boise, ID 83709, (208) 378-5600/TDD (208) 378-5644.

Illinois

USDA Rural Development State Office, 2118 West Park Court, Suite A, Champaign, IL 61821, (217) 403-6200/TDD (217) 403-6240.

Indiana

USDA Rural Development State Office, 5975 Lakeside Boulevard, Indianapolis, IN 46278, (317) 290-3100/TDD (317) 290-3343.

Iowa

USDA Rural Development State Office, Federal Building, Room 873, 210 Walnut Street, Des Moines, IA 50309, (515) 284-4663/TDD (515) 284-4858.

Kansas

USDA Rural Development State Office, 1303 S.W. First American Place, Suite 100, Topeka, KS 66604-4040, (785) 271-2700/TDD (785) 271-2767.

Kentucky

USDA Rural Development State Office, 771 Corporate Drive, Suite 200, Lexington, KY 40503, (859) 224-7300/TDD (859) 224-7422.

Louisiana

USDA Rural Development State Office, 3727 Government Street, Alexandria, LA 71302, (318) 473-7921/TDD (318) 473-7655.

Maine

USDA Rural Development State Office, 967 Illinois Avenue, Suite 4, P.O. Box 405, Bangor, ME 04402-0405, (207) 990-9160/TDD (207) 942-7331.

Maryland

USDA Rural Development State Office, 1221 College Park Drive, Suite 200, Dover, DE 19904, (302) 857-3580/TDD (302) 857-3585.

Massachusetts

USDA Rural Development State Office, 451 West Street, Suite 2, Amherst, MA 01002-2999, (413) 253-4300/TDD (413) 253-4590.

Michigan

USDA Rural Development State Office, 3001 Coolidge Road, Suite 200, East Lansing, MI 48823, (517) 324-5190/TDD (517) 324-5169.

Minnesota

USDA Rural Development State Office, 375 Jackson Street, Suite 410, St. Paul, MN 55101-1853, (651) 602-7800/TDD (651) 602-3799.

Mississippi

USDA Rural Development State Office, Federal Building, Suite 831, 100 W. Capitol Street, Jackson, MS 39269, (601) 965-4316/TDD (601) 965-5850.

Missouri

USDA Rural Development State Office, 601 Business Loop 70 West, Parkade Center, Suite 235, Columbia, MO 65203, (573) 876-0976/TDD (573) 876-9480.

Montana

USDA Rural Development State Office, 900 Technology Boulevard, Suite B, P.O. Box 850, Bozeman, MT 59771, (406) 585-2580/TDD (406) 585-2562.

Nebraska

USDA Rural Development State Office, Federal Building, Room 152, 100 Centennial Mall North, Lincoln, NE 68508, (402) 437-5551/TDD (402) 437-5093.

Nevada

USDA Rural Development State Office, 1390 South Curry Street, Carson City, NV 89703-5146, (775) 887-1222/TDD (775) 885-0633.

New Hampshire

USDA Rural Development State Office, City Center, 3rd Floor, 89 Main Street, Montpelier, VT 05602, (802) 828-6000/TDD (802) 223-6365.

New Jersey

USDA Rural Development State Office, 8000 Midlantic Drive, 5th Floor North, Suite 500, Mt. Laurel, NJ 08054, (856) 787-7700/TDD (856) 787-7784.

New Mexico

USDA Rural Development State Office, 6200 Jefferson Street, NE., Room 255, Albuquerque, NM 87109, (505) 761-4950/TDD (505) 761-4938.

New York

USDA Rural Development State Office, The Galleries of Syracuse, 441 South Salina Street, Suite 357, Syracuse, NY 13202-2541, (315) 477-6400/TDD (315) 477-6447.

North Carolina

USDA Rural Development State Office, 4405 Bland Road, Suite 260, Raleigh, NC 27609, (919) 873-2000/TDD (919) 873-2003.

North Dakota

USDA Rural Development State Office, Federal Building, Room 208, 220 East Rosser, P.O. Box 1737, Bismarck, ND 58502-1737, (701) 530-2037/TDD (701) 530-2113.

Ohio

USDA Rural Development State Office, Federal Building, Room 507, 200 North High Street, Columbus, OH 43215-2418, (614) 255-2400/TDD (614) 255-2554.

Oklahoma

USDA Rural Development State Office, 100 USDA, Suite 108, Stillwater, OK 74074-2654, (405) 742-1000/TDD (405) 742-1007.

Oregon

USDA Rural Development State Office, 1201 NE. Lloyd Blvd., Suite 801, Portland, OR 97232, (503) 414-3300/TDD (503) 414-3387.

Pennsylvania

USDA Rural Development State Office, One Credit Union Place, Suite 330, Harrisburg, PA 17110-2996, (717) 237-2299/TDD (717) 237-2261.

Puerto Rico

USDA Rural Development State Office, IBM Building, Suite 601, 654 Munos Rivera Avenue, San Juan, PR 00918-6106, (787) 766-5095/TDD (787) 766-5332.

Rhode Island

USDA Rural Development State Office, 451 West Street, Suite 2, Amherst, MA 01002-2999, (413) 253-4300/TDD (413) 253-4590.

South Carolina

USDA Rural Development State Office, Strom Thurmond Federal Building, 1835 Assembly Street, Room 1007, Columbia, SC 29201, (803) 765-5163/TDD (803) 765-5697.

South Dakota

USDA Rural Development State Office, Federal Building, Room 210, 200 Fourth Street, SW., Huron, SD 57350, (605) 352-1100/TDD (605) 352-1147.

Tennessee

USDA Rural Development State Office, 3322 West End Avenue, Suite 300, Nashville, TN 37203-1084, (615) 783-1300.

Texas

USDA Rural Development State Office, Federal Building, Suite 102, 101 South Main, Temple, TX 76501, (254) 742-9700/TDD (254) 742-9712.

Utah

USDA Rural Development State Office, Wallace F. Bennett Federal Building, 125 South State Street, Room 4311, Salt Lake City, UT 84138, (801) 524-4320/TDD (801) 524-3309.

Vermont

USDA Rural Development State Office, City Center, 3rd Floor, 89 Main Street, Montpelier, VT 05602, (802) 828-6000/TDD (802) 223-6365.

Virginia

USDA Rural Development State Office, 1606 Santa Rosa Road, Suite 238, Richmond, VA 23229-5014, (804) 287-1550/TDD (804) 287-1753.

Virgin Islands

USDA Rural Development State Office, 4440 NW. 25th Place, P.O. Box 147010, Gainesville, FL 32614-7010, (352) 338-3400/TDD (352) 338-3499.

Washington

USDA Rural Development State Office, 1835 Black Lake Boulevard SW., Suite B, Olympia, WA 98512-5715, (360) 704-7740/TDD (360) 704-7760.

West Virginia

USDA Rural Development State Office, 75 High Street, Room 320, Morgantown, WV 26505-7500, (304) 284-4860/TDD (304) 284-4836.

Wisconsin

USDA Rural Development State Office, 4949 Kirschling Court, Stevens Point, WI 54481, (715) 345-7600/TDD (715) 345-7614.

Wyoming

USDA Rural Development State Office, 100 East B, Federal Building, Room 1005, P.O. Box 11005, Casper, WY 82602-5006, (307) 233-6700/TDD (307) 233-6733.

FOR FURTHER INFORMATION CONTACT: For information and application assistance contact the appropriate Rural Development State Office listed in the ADDRESSES section of this Notice.

For information regarding Housing and Community Facilities Programs: Community Facilities, Anita Outen, Loan Specialist, at 202-720-1497, or Susan Woolard, Loan Specialist, at 202-720-1506; and Single Family Program, Myron Wooden, Loan Specialist, at 202-720-4780.

For further information regarding Business Programs, contact: Fred Kieferle, Business and Industry (B&I) Guaranteed Loan Program, at 202-720-7818, e-mail: fred.kieferle@wdc.usda.gov, Cindy Mason, Rural Business Enterprise Grant (RBEG), at 202-690-1433, e-mail: cindy.mason@wdc.usda.gov.

For information regarding Water and Environmental Programs' Direct Loan, Guaranteed Loan, and Grant programs, contact: Gayle Auman, Loan Specialist, at 334-279-3620, e-mail: gayle.auman@wdc.usda.gov.

SUPPLEMENTARY INFORMATION: Background: The Rural Development Mission Area agencies (RHS, RUS, and RBS of the United States Department of Agriculture) provide a wide variety of grant, loan, and loan guarantee assistance to rural residents, rural communities, and rural utility systems. The eligibility criteria for each of the programs differ widely.

Paperwork Reduction Act

In accordance with the Paperwork Reduction Act of 1995, USDA Rural Development has submitted a new information collection to OMB for emergency review and approval of the reporting and recordkeeping requirements contained in this Notice. The programs being impacted already have information collection packages in place. Therefore, the burden in this new package is solely based on the additional burden hours being generated by the American Recovery and Reinvestment Act of 2009. The breakdown is as follows:

(OMB No. 0572-0121) 7 CFR Part 1780, Water and Waste Loan and Grant Program

Estimate Burden Increase: 78,111 hours.

(OMB No. 0570-0022) 7 CFR Part 1942-G, Rural Business Enterprise Grants and Television Demonstration Grants.

Estimated Burden Increase: 19,189 hours.

(OMB No. 0575-0173) 7 CFR 3570-B, Community Facilities Grant Program.

Estimated Burden Increase: 3,102 hours.

(OMB No. 0575-0015) 7 CFR 1942-A, Community Facility Loans.

Estimated Burden Increase: 70,560 hours.

(OMB No. 0575-0120) 7 CFR Part 1942-C, “Fire and Rescue Loans”.

Estimated Burden Increase: 7,512 hours.

(OMB No. 0575-0172) Direct Single Family Housing Loan and Grant Programs, 7 CFR Part 3550-HB-1-3550, and HB-2-3550.

Estimated Burden Increase: 39,198 hours.

(OMB No. 0575-0078) 7 CFR Part 1980-D, Rural Housing Loans.

Estimated Burden Increase: 106,878 hours.

Reporting and Registration Requirement under Section 1512 of the American Recovery and Reinvestment Act of 2009, Public Law 111-5:

(a) This award requires the recipient to complete projects or activities which are funded under the American Recovery and Reinvestment Act of 2009 (“Recovery Act”) and to report on use of Recovery Act funds provided through this award. Information from these reports will be made available to the public.

(b) The first report is due no later than ten calendar days after the initial calendar quarter in which the recipient receives the assistance award funded in whole or in part by the Recovery Act, or by October 10, 2009. Thereafter, reports shall be submitted no later than the 10th day after the end of each calendar quarter.

(c) Recipients and their first-tier recipients must maintain current registrations in the Central Contractor Registration (http://www.ccr.gov) at all times during which they have active federal awards funded with Recovery Act funds. A Data Universal Numbering System (DUNS) Number is one of the requirements for registration in the Central Contractor Registration.

(d) The recipient shall report the information described in section 1512(c) using the reporting instructions and data elements that will be provided online at http://www.FederalReporting.gov, unless the information is pre-populated.

I. American Recovery and Reinvestment Act (Recovery Act), 2009

A. Affected Programs

The following programs are subject to the provisions of Executive Order 12372 which requires intergovernmental consultation with State and local officials, pursuant to 7 CFR 3015.302. These programs or activities are listed in the Catalog of Federal Domestic Assistance (CDFA) under numbers:

10.780 Community Facilities Loans and Grants

10.788 Single Family Housing Direct Loans

10.789 Single Family Housing Guaranteed Loans

10.782 Business and Industry Guaranteed Loans

10.783 Rural Business Enterprise Grants

10.781 Water and Waste Loans and Grants

10.886 Broadband Loans and Grants

B. Definitions

“Agency”—The Rural Housing Service, Rural Utilities Service and Rural Business-Cooperative Service or the successors for the programs it administers.

“Persistent poverty counties”—Any county that has had twenty percent or more of its population living in poverty for the past thirty years, as measured by the 1980, 1990, 2000 decennial census information.

“Recipient”—Any entity that receives Recovery Funds directly from the Federal Government (including Recovery Funds received through loan, grant, or contract) other than an individual and includes a State that receives Recovery Funds.

“Recovery Act”—Refers to Title 1 of Division A of the American Recovery and Reinvestment Act, 2009, (Pub. L. 111-5) (February 17, 2009).

“Recovery Funds”—Any funds that are available from appropriations made under the Recovery Act.

C. General Provisions

1. Preference for Quick-Start Activities

In using the funds made available in the Recovery Act for infrastructure investment, the Agencies shall give preference to activities that can be started and completed expeditiously, including a goal of using at least 50 percent of the funds for activities that can be initiated not later than 120 days after the date of enactment of the Recovery Act. Recipients shall also use grant funds in a manner that maximizes job creation and economic benefit. Agencies may use these funds for a backlog of applications on hand as well as new applications. For Water and Environment and Community Facilities programs, those new applications that are submitted in a timely manner complete with Preliminary Engineering Review (PER), Environmental Report (ER), and current financial data will be accelerated in the process.

2. Period of Availability

All funds appropriated in the Recovery Act are available for obligation no later than September 30, 2010. Funding provided through the Recovery Act is one-time funding.

3. Buy American

None of the funds made available by the Recovery Act may be used for a project for the construction, alteration, maintenance, or repair of a public building or public work unless all of the iron, steel and manufactured goods used in the project are produced in the United States unless USDA Rural Development waives the application of this provision. Since only Community Facilities (CF) and Water and Environmental Programs (WEP) are involved in the construction, alteration, maintenance, or repair of public building and public works, the Buy American provisions are only applicable to CF and WEP. (Recovery Act Sec. 1605)

If the applicant's requested use of Recovery Act funds involves the construction, alteration, maintenance, or repair of a public building or public work, and does not involve iron, steel, and or manufactured goods covered under international agreements, the following is applicable:

Notice of Required Use of American Iron, Steel, and Manufactured Goods—Section 1605 of the American Recovery and Reinvestment Act, 2009

(a) Definitions. Manufactured good, public building and public work, and steel, as used in this notice, are defined in 2 CFR 176.140.

(b) Requests for determinations of inapplicability. A prospective applicant requesting a determination regarding the inapplicability of Section 1605 of the American Recovery and Reinvestment Act of 2009 (Pub. L. 111-5) (Recovery Act) should submit the request to the award official in time to allow a determination before submission of applications or proposals. The prospective applicant shall include the information and applicable supporting data required by 2 CFR 176.140(c) and (d) in the request. If an applicant has not requested a determination regarding the inapplicability of Section 1605 of the Recovery Act before submitting its application or proposal, or has not received a response to a previous request, the applicant shall include the information and supporting data in the application or proposal.

(c) Evaluation of project proposals. If the Federal government determines that an exception based on unreasonable cost of domestic iron, steel, and/or manufactured goods applies, the Federal Government will evaluate a project requesting exception to the requirements of Section 1605 of the Recovery Act by adding to the estimated total cost of the project 25 percent of the project cost, if foreign iron, steel, or manufactured goods are used in the project based on unreasonable cost of comparable manufactured domestic iron, steel, and/or manufactured goods.

(d) Alternate project proposals.

(1) When a project proposal includes foreign iron, steel, and/or manufactured goods not listed by the Federal Government at 2 CFR 176.140(b)(2), the applicant also may submit an alternate proposal based on use of equivalent domestic iron, steel, and/or manufactured goods.

(2) If an alternate proposal is submitted, the applicant shall submit a separate cost comparison table prepared in accordance with 2 CFR 176.140(c) and (d) for the proposal that is based on the use of any foreign iron, steel, and/or manufactured goods for which the Federal Government has not yet determined an exception applies.

(3) If the Federal Government determines that a particular exception requested in accordance with 2 CFR 176.140(b) does not apply, the Federal Government will evaluate only those proposals based on use of the equivalent domestic iron, steel, and/or manufactured goods, and the applicant shall be required to furnish such domestic items.

If the applicant's requested use of Recovery Act funds involves the construction, alteration, maintenance, or repair of a public building or public work, and involves iron, steel, and/or manufactured goods covered under international agreements, the following is applicable:

Notice of Required Use of American Iron, Steel, and Manufactured Goods (Covered Under International Agreements)—Section 1605 of the American Recovery and Reinvestment Act, 2009

(a) Definitions. Designated country iron, steel, and/or manufactured goods, foreign iron, steel, and/or manufactured good, manufactured good, public building and public work, and steel, as used in this provision, are defined in 2 CFR 176.160(a).

(b) Requests for determinations of inapplicability. A prospective applicant requesting a determination regarding the inapplicability of Section 1605 of the American Recovery and Reinvestment Act of 2009 (Pub. L. 111-5) (Recovery Act) should submit the request to the award official in time to allow a determination before submission of applications or proposals. The prospective applicant shall include the information and applicable supporting data required by 2 CFR 176.160(c) and (d) in the request. If an applicant has not requested a determination regarding the inapplicability of 1605 of the Recovery Act before submitting its application or proposal, or has not received a response to a previous request, the applicant shall include the information and supporting data in the application or proposal.

(c) Evaluation of project proposals. If the Federal Government determines that an exception based on unreasonable cost of domestic iron, steel, and/or manufactured goods applies, the Federal Government will evaluate a project requesting exception to the requirements of section 1605 of the Recovery Act by adding to the estimated total cost of the project 25 percent of the project cost if foreign iron, steel, or manufactured goods are used based on unreasonable cost of comparable domestic iron, steel, or manufactured goods.

(d) Alternate project proposals.

(1) When a project proposal includes foreign iron, steel, and/or manufactured goods, other than designated country iron, steel, and/or manufactured goods, that are not listed by the Federal Government in this Buy American notice in the request for applications or proposals, the applicant may submit an alternate proposal based on use of equivalent domestic or designated country iron, steel, and/or manufactured goods.

(2) If an alternate proposal is submitted, the applicant shall submit a separate cost comparison table prepared in accordance with 2 CFR 176.160(c) and (d) for the proposal that is based on the use of any foreign iron, steel, and/or manufactured goods for which the Federal Government has not yet determined an exception applies.

(3) If the Federal Government determines that a particular exception requested in accordance with 2 CFR 176.160(b) does not apply, the Federal Government will evaluate only those proposals based on use of the equivalent domestic or designated country iron, steel, and/or manufactured goods and the applicant shall be required to furnish such domestic or designated country items.

4. Wage-Rate Requirements

All laborers and mechanics employed by contractors and subcontractors on projects funded directly by or assisted in whole or in part by and through the Federal Government pursuant to the Recovery Act shall be paid wages at rates not less than those prevailing on projects of a character similar in the locality as determined by the Secretary of Labor in accordance with subchapter IV of chapter 31 of 40 U.S.C. In this regard, the award will contain the following provision:

Wage Rate Requirements Under Section 1606 of the American Recovery and Reinvestment Act, 2009

(a) Section 1606 of the Recovery Act requires that all laborers and mechanics employed by contractors and subcontractors on projects funded directly by or assisted in whole or in part by and through the Federal Government pursuant to the Recovery Act shall be paid wages at rates not less than those prevailing on projects of a character similar in the locality as determined by the Secretary of Labor in accordance with subchapter IV of chapter 31 of 40 U.S.C.

Pursuant to Reorganization Plan No. 14 and the Copeland Act, 40 U.S.C. 3145, the Department of Labor has issued regulations at 29 CFR Parts 1, 3, and 5 to implement the Davis-Bacon and related Acts. Regulations in 29 CFR 5.5 instruct agencies concerning application of the standard Davis-Bacon contract clauses set forth in that section. Federal agencies providing grants, cooperative agreements, and loans under the Recovery Act shall ensure that the standard Davis-Bacon contract clauses found in 29 CFR 5.5(a) are incorporated in any resultant covered contracts that are in excess of $2,000 for construction, alteration and/or repair (including painting and decorating).

(b) For additional guidance on the wage rate requirements of section 1606, contact your awarding agency. Recipients of grants, cooperative agreements and loans should direct their initial inquiries concerning the application of Davis-Bacon requirements to a particular federally assisted project to the Federal agency funding the project. The Secretary of Labor retains final coverage authority under Reorganization Plan No. 14.

5. National Environmental Policy Act of 1969

Implementation of the Recovery Act will utilize existing environmental review compliance requirements in accordance with its statutory and regulatory obligations. The Agency's respective environmental policies and procedures are codified in 7 CFR Part 1940, Subpart G and 7 CFR Part 1794 as applicable. All relevant environmental compliance requirements are integrated in the above regulations, including the National Environmental Policy Act, National Historic Preservation Act and Endangered Species Act compliance processes.

All program applicants are required to integrate environmental factors, along with other technical and financial considerations, into early project planning and design. The environmental review process must be completed, including all public notice requirements prior to funding any proposals.

6. Accountability and Transparency and Responsibility for Informing Sub-Recipients

Recipients and their sub-recipients must maintain current registrations in the Central Contractor Registration (http://www.ccr.gov) at all times for which they have active Federal awards funded with Recovery Act funds. A Dun and Bradstreet Data Universal Numbering System (DUNS) Number (http://www.dnb.com/us/) is one of the requirements for registration in the Central Contractor Registration.

All awards will contain the following tracking and documenting requirements:

Recovery Act Transactions Listed in Schedule of Expenditures of Federal Awards and Recipient Responsibilities for Informing Sub-Recipients

(a) To maximize the transparency and accountability of funds authorized under the Recovery Act as required by Congress and in accordance with 2 CFR 215, subpart 21 and OMB Circular A-102 Common Rules provisions, recipients agree to maintain records that identify adequately the source and application of Recovery Act funds.

(b) For recipients covered by the Single Audit Act Amendments of 1996 and OMB Circular A-133, “Audits of States, Local Governments, and Non-Profit Organizations,” recipients agree to separately identify the expenditures for Federal awards under the Recovery Act on the Schedule of Expenditures of Federal Awards (SEFA) and the Data Collection Form (SF-SAC) required by OMB Circular A-133. This shall be accomplished by identifying expenditures for Federal awards made the under Recovery Act separately on the SEFA, and as separate rows under Item 9 of Part III on the SF-SAC by CFDA number, and inclusion of the prefix “ARRA” in identifying the name of the Federal program on the SEFA and as the first characters in Item 9d of Part III on the SF-SAC.

(c) Recipients agree to separately identify to each sub-recipient and document at the time of sub-award and at the time of disbursement of funds, the Federal award number, CFDA number, and amount of Recovery Act funds. When a recipient awards Recovery Act funds for an existing program, the information furnished to sub-recipients shall distinguish the sub-awards of incremental Recovery Act funds from regular sub-awards under the existing program.

(d) Recipients agree to require their sub-recipients to include their SEFA information to specifically identify Recovery Act funding similar to the requirements for the recipient SEFA described above. This information is needed to allow the recipient to properly monitor sub-recipient expenditure of Recovery Act funds as well as oversight by the Federal awarding agencies, Offices of Inspector General and the Government Accountability Office.

Pursuant to section 1511 of the Recovery Act:

With respect to these funds made available to State or local governments for infrastructure investments, the Governor, mayor, or other chief executive, as appropriate, shall certify that the infrastructure investment has received the full review and vetting required by law and that the chief executive accepts responsibility that the infrastructure investment is an appropriate use of taxpayer dollars. Such certification shall include a description of the investment, the estimated total cost, and the amount of these funds to be used, and shall be posted on the Recovery.gov Web site at http://www.recovery.gov. A State or local agency may not receive infrastructure investment funding from funds made available in the Recovery Act unless this certification is made and posted.

7. Reporting on Use of the Recovery Funds

Recipients of Federal awards from funds authorized under the Recovery Act must comply with all reporting requirements outlined in Section 1512 of the Recovery Act. For purposes of reporting, recipients of recovery funds from RD must report on sub-recipient activities as specified below. Not later than 10 days after the end of each calendar quarter, starting with the quarter ending June 30, 2009, and reporting by July 10, 2009, the recipient must submit a report to the appropriate Agency that will be posted to Recovery.gov. Each award will contain the following reporting requirement:

Reporting and Registration Requirements Under Section 1512 of the American Recovery and Reinvestment Act, 2009

(a) This award requires the recipient to complete projects or activities which are funded under the Recovery Act and to report on use of Recovery Act funds provided through this award. Information from these reports will be made available to the public.

(b) The reports are due no later than ten calendar days after each calendar quarter in which the recipient receives the assistance award funded in whole or in part by the Recovery Act.

(c) Recipients and their sub-recipients must maintain current registrations in the Central Contractor Registration (http://www.ccr.gov) at all times during which they have active Federal awards funded with Recovery Act funds. A Dun and Bradstreet Data Universal Numbering System (DUNS) Number (http://www.dnb.com/us/) is one of the requirements for registration in the Central Contractor Registration.

(d) The recipient shall report the information described in Section 1512(c) of the Recovery Act, the reporting instructions and data elements that will be provided online at http://www.FederalReporting.gov, and ensure that any information that is pre-filled is corrected or updated as needed.

8. Priority

For Water and Environment, Community Facilities, and Rural Business programs, 10 percent of funding shall be allocated for assistance in persistent poverty counties.

9. Whistleblower Protection

Each recipient or sub-recipient awarded funds made available under the Recovery Act shall promptly refer to the USDA Office of Inspector General, any credible evidence that a principal, employee, agent, contractor, sub-recipient, subcontractor, or other person has submitted a false claim under the False Claims Act or has committed a criminal or civil violation of laws pertaining to fraud, conflict of interest, bribery, gratuity, or similar misconduct involving those funds.

Section 1553(a) of the Recovery Act provides protection for whistleblowers:

Prohibition of Reprisals—An employee of any non-Federal employer receiving covered funds may not be discharged, demoted, or otherwise discriminated against as a reprisal for disclosing, including a disclosure made in the ordinary course of an employee's duties, to the Board, an inspector general, the Comptroller General, a member of Congress, a State or Federal regulatory or law enforcement agency, a person with supervisory authority over the employee (or such other person working for the employer who has the authority to investigate, discover, or terminate misconduct), a court or grand jury, the head of a Federal agency, or their representatives, information that the employee reasonably believes is evidence of—

(1) Gross mismanagement of an agency contract or grant relating to covered funds;

(2) A gross waste of covered funds;

(3) A substantial and specific danger to public health or safety related to the implementation or use of covered funds;

(4) An abuse of authority related to the implementation or use of covered funds; or

(5) A violation of law, rule, or regulation related to an agency contract (including the competition for or negotiation of a contract) or grant, awarded or issued relating to covered funds.

10. Schedule of Expenditures of Federal Awards

Recipients agree to separately identify the expenditures for each loan and grant award funded under the Recovery Act on the SEFA and the SF-SAC required by OMB Circular A-133. This identification on the SEFA and SF-SAC shall include the Federal award number, the CFDA number, and amount, such that separate accountability and disclosure is provided for Recovery Act funds by Federal award number consistent with the recipient reports required by Section 1512(c).

11. Prohibitions

None of the funds appropriated or otherwise made available under the Recovery Act may be used by any State or local government or any private entity for any casino or other gambling related establishment, aquarium, zoo, golf course or swimming pool. This prohibition extends to all facilities that maintain such establishments. In implementing this prohibition RD specifically will not finance projects, such as dwellings and hotels, with swimming pools. (Section 1604 of the Recovery Act.)

12. Civil Rights

Programs referenced in this notice are subject to applicable Civil Rights Laws. These laws include the Equal Credit Opportunity Act, Title VI of the Civil Rights Act of 1964, Title VIII of the Civil Rights Act of 1968, as amended in 1988, Section 504 of the Rehabilitation Act of 1973, and the Age Discrimination Act of 1975.

13. Application Procedure

Unless otherwise specified in this Notice, the application procedure for assistance under this Notice is the same as the regular application procedure for the particular program for which financial assistance is requested.

D. Funding Availability

1. Community Facilities (CF) Programs

General. The CF Direct Loan and Grant Programs are designed to finance and facilitate the development of essential community facilities servicing rural areas. These facilities include, but are not limited to, hospitals; medical clinics; elderly care facilities; police stations and vehicles; fire and rescue stations and vehicles; vocational and medical rehabilitation centers; and educational facilities. Funds under this Notice can be used to construct, enlarge or improve community facilities for health, public safety, and education. This may include the purchase of equipment or furnishings required for a facility's operation.

Recovery Act Authorization. Pursuant to the Recovery Act, funding is available as follows:

CF Direct Loan Funds | $1,136,188,811
Less National Office Reserve | 568,094,811
Allocation to States | 568,094,000
CF Grant Funds | 61,110,000
Less National Office Reserve | 30,553,000
Allocation to States | 30,557,000

Applicable Statutory or Regulatory Authority.

• Consolidated Farm and Rural Development Act, Section 306 (7 U.S.C. 1926(a)(1) and (19)).

• 7 CFR Part 1942, Subpart A, Community Facilities Direct Loan Program.

• 7 CFR Part 1942, Subpart C, Fire and Rescue Loans.

• 7 CFR Part 3570, Subpart B, Community Facilities Grant Program.

Further Information. The essential community facility must primarily serve rural areas, be located in a rural area with a population of 20,000 or less, and the median household income of the population to be served by the proposed facility must be below the higher of the poverty line or 90 percent of the State non-metropolitan median household income. The amount of CF grant funds that a project is eligible for will be determined in accordance with 7 CFR Part 3570, Subpart B. CF grant funds will not exceed 75 percent of the total project cost. Additionally, if other Federal grant assistance is received, the aggregate of Federal grant assistance may not exceed 75 percent of the total project cost. Rural Development has determined that it will review and make awards under this NOFA as applications are received based on the existing criteria in 7 CFR, Part 3570, Subpart B, and 7 CFR, Part 1942, Subpart A. Applications will be reviewed, approved, and obligated in the States' Rural Development offices.

2. Single Family Housing (SFH) Programs

General. USDA Rural Development will provide assistance through its SFH loan program in rural areas as authorized under the Recovery Act. The SFH loan programs are designed to assist very low, low-income, and moderate-income households to obtain modest, decent, safe, and sanitary housing for use as a permanent residence in rural areas.

Recovery Act Authorization. Pursuant to the Recovery Act, funding is available as follows:

(a) Section 502 Guaranteed SFH Loans
Guarantees—Purchase | $9,849,606,299
Guarantees—Refinance | 400,000,000
(1) Purchase—Amount Available for 2009 Recovery Act Allocation
Amount Available for Allocation | 9,849,606,299
Less National Office General Reserve | 2,849,606,299
Allocation to the States | 7,000,000,000
(2) Refinance—Amount Available for 2009 Recovery Act Allocation
Total Available | 400,000,000
Less National Office General Reserve | 400,000,000
(b) Section 502 Direct SFH Loans
Amount Available for Allocation | 967,113,095
Less National Office General Reserve | 290,143,000
Allocation to the States | 676,979,000

Applicable Statutory or Regulatory Authority.

• The Housing Act of 1949 as amended.

• 7 CFR Part 1980, Subpart D (Guaranteed).

• 7 CFR Part 3550 (Direct).

Further Information. All SFH programs typically are administered through field offices. For more information or to request an application, please contact the Rural Development state office servicing your area listed in the ADDRESSES section of this notice. Section 502 Guaranteed SFH Refinance loan funds, however, will be distributed from the National Office.

All Section 502 loans involving construction or repair costs greater than $2,000 funded with recovery funds will be subject to the provisions of the Davis-Bacon Act. The National Office will maintain a general reserve. These funds will be available to states that exhaust their Recovery Act allocations.

3. Business & Industry (B&I) Guaranteed Loan Program

USDA Rural Development will provide B&I guaranteed loan funds for eligible businesses as authorized under the Recovery Act. As program details are currently under consideration, a separate NOFA will be issued providing program specifics at a later date.

4. Rural Business Enterprise Grant (RBEG) Program

General. RBS's primary objective is to improve the economic conditions of rural areas. RBEG funding will be used to support the development of small and emerging private business enterprises in rural areas. The USDA Rural Development will administer grant awards made under the RBEG program and 7 U.S.C. 1932(c) for fiscal years (FYs) 2009 and 2010. RBEG program regulations are in 7 CFR part 1942, subpart G. Expenses incurred in developing applications will be at the applicant's risk.

Recovery Act Authorization. Pursuant to the Recovery Act, funding is available as follows:

Rural Business Enterprise Grants—$19,400,000.

Approximate Number of Awards: Estimate 200;

Average Award: $99,000;

Anticipated Award Date: Ongoing until available funds are expended.

Applicable Statutory or Regulatory Authority.

• Consolidated Farm and Rural Development Act, Section 310B (7 U.S.C. 1932).

• 7 CFR Part 1942, subpart G.

Dates. RBEG applications will be accepted in the State Offices on a rolling basis. States will be required to submit applications to the National Office by local close of business on the last business day of each month (June 29, July 31 and so forth) until funds are expended.

Further Information. Applicants can obtain grant application information and submit applications for Rural Business Enterprise Grants through the grants.gov site at http://www.grants.gov. Users of grants.gov alternatively may download a copy of the application package to complete offline. Applications in paper format should be submitted to the USDA Rural Development State Office where the project is located. All applicants must have a Dun and Bradstreet Data Universal Numbering System (DUNS) number which can be obtained at no cost via a toll-free request line at 1-866-705-5711 or at http://www.dnb.com/us/.

Eligible Projects will be scored, ranked, and submitted to the Secretary for final selection for Recovery Act funding. Unsuccessful projects submitted under the Recovery Act will be returned to the appropriate State Offices for possible funding under the Omnibus Appropriations Act, 2009.

Matching funds are not required.

5. Water and Environmental Programs (WEP)

This Notice is intended to announce the availability of additional assistance to be administered through the WEP as authorized under the Recovery Act, 2009, as follows:

WEP Direct Loans Funds | $2,733,515,732
WEP Grant Funds | 924,680,000
Circuit Rider Technical Assistance | 14,280,000

USDA Rural Development's WEP provides a wide variety of loan, grant, and loan guarantee assistance to rural residents, rural communities and rural utility systems. Funding shall be used for the cost of direct loans and grants for the rural water, waste water and waste disposal programs authorized by section 306 and described in section 381E(d)(2) of the Consolidated Farm and Rural Development Act.

(a) Assistance Available through This Notice.

The Act enables USDA Rural Development to make additional funds available for WEP with Direct Loans and Grants. Eligible applicants are public bodies, organizations operated on a not-for-profit basis, Indian tribes on Federal and State reservations and other Federally-recognized Indian tribes. These funds will be used to serve rural areas with a population not in excess of 10,000. Eligible loan and grant purposes include, but are not limited to, constructing, enlarging, extending or otherwise improving rural water, sanitary sewage, solid waste disposal and storm wastewater disposal facilities. None of the borrower and project eligibility requirements as outlined in 7 CFR part 1780, including availability of other credit, income or population are waived under this Notice.

Further details on eligible applicants and projects may be found in the relevant regulations listed in applicable statutory or regulatory authority below.

(b) National Environment Policy Act of 1969.

The WEP implementation of the Recovery Act will utilize existing environmental review compliance requirements in accordance with its statutory and regulatory obligations. The agency's environmental policies and procedures are codified in 7 CFR Part 1794. All relevant environmental compliance requirements are integrated in the above regulation, including the National Environmental Policy Act, National Historic Preservation Act and Endangered Species Act compliance processes.

All WEP applicants are required to integrate environmental factors, along with other technical and financial considerations into early project planning and design. The agency has guidance documents for applicants posted on the following webpage— http://www.usda.gov/rus/water/ees/bulletin.htm. The environmental review process must be complete, including all public notice requirements prior to funding any proposals.

(c) Applicable Statutory or Regulatory Authority.

• Title 1 of Division A of the American Recovery and Reinvestment Act, 2009;

• Consolidated Farm and Rural Development Act, Section 306(a)(1), (2) and (22) (7 U.S.C. 1926(a)(1), (2) and (22));

• 7 CFR Part 1780, Water and Waste Loans and Grants; and

• RD Instruction 1940-C, Davis Bacon and Related Acts (Available in any RD Office).

6. Broadband Direct Loans and Grants

Rural Development anticipates making Direct Broadband loans and grants available to eligible entities using Recovery Act funds. Further information regarding Broadband loans and grants will be provided separately in a subsequent NOFA or a series of NOFAs.

Civil Rights: Programs referenced in this Notice are subject to applicable Civil Rights Laws. These laws include the Equal Credit Opportunity Act, Title VI of the Civil Rights Act of 1964, Title VIII of the Civil Rights Act of 1968, as amended in 1988, Section 504 of the Rehabilitation Act of 1973 and the Age Discrimination Act of 1975.

Non-Discrimination Statement: The U.S. Department of Agriculture (USDA) prohibits discrimination in all its programs and activities on the basis of race, color, national origin, age, disability, and where applicable, sex, marital status, familial status, parental status, religion, sexual orientation, genetic information, political beliefs, reprisal, or because all or part of an individual's income is derived from any public assistance program. (Not all prohibited bases apply to all programs.) Persons with disabilities who require alternative means for communication of program information (Braille, large print, audiotape, etc.) should contact USDA's TARGET Center at (202) 720-2600 (voice and TDD). To file a complaint of discrimination, write to USDA, Director, Office of Civil Rights, 1400 Independence Avenue, SW., Washington, DC 20250-9410, or call (800) 795-3272 (voice), or (202) 720-6382 (TDD). “USDA is an equal opportunity provider, employer, and lender.”

Dated: July 17, 2009.
Dallas Tonsager,
Under Secretary.

[FR Doc. E9-17512 Filed 7-22-09; 8:45 am]

BILLING CODE 3410-XY-P